DEPARTMENT OF HEALTH AND HUMAN SERVICES

Office of Inspector General; Program Exclusions: December 2000

AGENCY: Office of Inspector General, HHS.

ACTION: Notice of program exclusions.

During the month of December 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
Program-Related Convictions
Ashkaryan, Gevork | 01/18/2001
North Hollywood, CA
Barksdale, Evelyn R | 01/18/2001
Gillispie, IL
Blum, Eduardo | 01/18/2001
Miami, FL
Brock, Danny Leslee | 01/18/2001
Cottageville, SC
Carbone, Francisco | 01/18/2001
Weston, CT
Carsillo, Richard | 01/18/2001
Asheville, NC
Downtown Dental Center, PA | 01/18/2001
Paterson, NJ
Foreman, Lenetta Grant | 01/18/2001
Tahlequah, OK
Gallardo, Omar | 01/18/2001
Matamoras, PA
Goodman, Harold F | 01/18/2001
Quincy, MA
Gordon, Howard | 01/18/2001
Boca Raton, FL
Hamlin, Donald R | 01/18/2001
Burnside, KY
Isola, Joseph C | 01/18/2001
Norwell, MA
Jackson, Robert Jerry | 01/18/2001
Mt. Juliet, TN
Khandwala, Nitin | 01/18/2001
Livingston, NJ
Kinloch-Linder, Henri Renee | 01/18/2001
Walterboro, SC
Lathan, Janice | 01/18/2001
Macon, MS
Limon, Josephine Apodaca | 01/18/2001
Glendale, AZ
Mack, Demetrius L | 01/18/2001
Milwaukee, WI
Madruga, Jorge | 01/18/2001
Corona, NY
Neufeld, Elliot Lance | 01/18/2001
Columbus, OH
Nguyen, Doi Thanh | 01/18/2001
San Diego, CA
O'Donnell, Carol | 01/18/2001
Syracuse, NY
Orthopedic Surgery of S. Shore | 01/18/2001
Quincy, MA
Pierce, Ben | 01/18/2001
Houston, TX
Ramos-Santiago, Nelson DeJesus | 01/18/2001
Pensacola, FL
Rodriguez, Pedro J | 01/18/2001
Charlotte, NC
Sailors, Betty Smith | 01/18/2001
Lexington, KY
Streetman, Donald Ernest | 01/18/2001
Statesboro, GA
Way, Latoshia E | 01/18/2001
Cottageville, SC
Welber, Agneta | 01/18/2001
Brooklyn, NY
Zwiebel, Kenneth | 01/18/2001
Laurel Hollow, NY
Felony Controlled Substance Conviction
Draper, Byrant | 01/18/2001
Maxwell AFB, AL
Hogg, Amber Donee | 01/18/2001
Heber Springs, AR
Jenkins, Kimberly Kay | 01/18/2001
Huntington BCH, CA
Kennedy, John Henry | 01/18/2001
Chattanooga, TN
Story, Diana L | 01/18/2001
Lenoir, NC
Thomasson, Dustin Wade | 01/18/2001
Enid, OK
Walker, Pamela Demetria | 01/18/2001
Marianna, FL
Patient Abuse/Neglect Convictions
Anderson, Robert Jr | 01/18/2001
Hattiesburg, MS
Bridges, Daniel | 01/18/2001
Picayune, MS
Brown, Derek Milton | 01/18/2001
San Antonio, TX
Brown, Carl E | 01/18/2001
Rutland, VT
Burrus, Shantina Marie | 01/18/2001
Hopkinsville, KY
Carroll, Christopher A | 01/18/2001
Wesson, MS
Gurwell, Kenneth Warren | 01/18/2001
Susanville, CA
Harvey, Raysha Kenee | 01/18/2001
Long Beach, MS
Hutton, Shirley Ann | 01/18/2001
Columbia, MS
Lambriola, Vincent P | 01/18/2001
Cedar Grove, NJ
Lera, Thomas Alfred Jr | 01/18/2001
Galveston, TX
McGregor, Clinton E | 01/18/2001
Baltimore, MD
Mize, Erick Wayne | 01/18/2001
Stringtown, OK
Moore, Kimberly E | 01/18/2001
Trenton, TN
Moret, Israel | 01/18/2001
Bridgewater, MA
Morris, Christel Rozell | 01/18/2001
Tacoma, WA
Potter, Rose M | 01/18/2001
Columbus, OH
Sledge, Katrina E | 01/18/2001
Macon, MS
Tanner, Karen S | 01/18/2001
Columbus, OH
Wallace, Arthur Cleveland | 01/18/2001
Elmira, NY
Williams, Roger L | 01/18/2001
Belleville, IL
Wrinkles, Jeffrey | 01/18/2001
W. Plains, MO
Controlled Substance Convictions
Chaiet, Melvin | 01/18/2001
Beltsville, MD
Muhar, Ivy Mae | 01/18/2001
St. Petersburg, FL
License Revocation/Suspension/Surrendered
Abney, Dennis | 01/18/2001
Burlingame, CA
Allen, Joy Holley | 01/18/2001
Mabelvale, AR
Ashmore, Patricia Todd | 01/18/2001
Clifton Hgts, PA
Atkinson, Deborah Jean | 01/18/2001
Lewisville, TX
Ball, Louis Albert | 01/18/2001
S. Lake Tahoe, CA
Barber, Bradley James | 01/18/2001
Potsdam, NY
Barnes, Deborah D | 01/18/2001
Newport News, VA
Baumgartner, Debra L | 01/18/2001
Thompson, CT
Bellin, Eugene LLoyd | 01/18/2001
Bronx, NY
Berkness, Carrie Lee | 01/18/2001
St. Francis, MN
Bernhard, Kathleen Mary | 01/18/2001
Port Jervis, NY
Berry, Cathy Diane Gamble | 01/18/2001
Hanceville, AL
Bickerstaff, Delton Lee Jr | 01/18/2001
Selma, AL
Biljan, Sheila Marie | 01/18/2001
Inver Grove Hgts, MN
Braid, Byron Saul | 01/18/2001
Chadds Ford, PA
Brooker, Debra Marie | 01/18/2001
Framingham, MA
Brubaker, Susan Lynne | 01/18/2001
San Anselmo, CA
Bustamante, Eduardo Munoz | 01/18/2001
Amherst, MA
Byram, James Ray | 01/18/2001
Florence, AL
Camarata, Anthony | 01/18/2001
Rochester, NY
Campagnone, Paul J | 01/18/2001
Colchester, VT
Campos-Deltoro, Carolyn Anne | 01/18/2001
Salem, AR
Cannon, Kathy M | 01/18/2001
Northridge, CA
Carron, William Clark | 01/18/2001
Seattle, WA
Carter-Oberstone, Becky Durley | 01/18/2001
Fallbrook, CA
Chadd, Stephen Mark | 01/18/2001
Corpus Christi, TX
Chance, Charlene Kim | 01/18/2001
Elgin, MN
Chin, Ed Ming | 01/18/2001
New York, NY
Chirhart, Cynthia Ann | 01/18/2001
Temple, TX
Chizmar, Elizabeth A | 01/18/2001
Springfield, VT
Ciani, John Thomas | 01/18/2001
Schenectady, NY
Claren, Paul R | 01/18/2001
Orwell Township, OH
Clausen, Winifred Elra | 01/18/2001
Santa Rosa, CA
D'Ascoli, Bartholomew R | 01/18/2001
Montague, NJ
Davidson, Kenneth Ronald | 01/18/2001
Reseda, CA
Davis, Marlo M | 01/18/2001
Pittsburgh, PA
Dhaliwal, Rimplejit Singh | 01/18/2001
Bakersfield, CA
Dodd, Elizabeth P | 01/18/2001
Kalamazoo, MI
Dougherty, Bruce Elliott | 01/18/2001
Middletown, CT
Dyer, Marcella C | 01/18/2001
Springfield, VA
English, Robert Livingston III | 01/18/2001
Santa Rosa, CA
Farquhar, Nancy Ann | 01/18/2001
Hoover, AL
Faybik, Michelle Leigh H | 01/18/2001
New Kensington, PA
Ford, Bonnie Lee | 01/18/2001
Bovey, MN
Foster, Lynn Kay | 01/18/2001
Martinez, CA
Freeland, Frances J | 01/18/2001
Meriden, CT
Freeman, Janet Sue | 01/18/2001
Edgewater, FL
Gamber, Elizabeth A | 01/18/2001
Lake Havasu City, AZ
Gordon, Teri L | 01/18/2001
Wyandotte, MI
Grant, Richard Leslie | 01/18/2001
Wasilla, AK
Gunkel, George Frederick | 01/18/2001
San Francisco, CA
Hancock, Julie Delynn | 01/18/2001
Stephenville, TX
Harper, Patricia E | 01/18/2001
Newark, TX
Hickman, Clara Charlene | 01/18/2001
Piedmont, AL
Hill, Patricia S | 01/18/2001
West Monroe, NY
Hoagland, William Russell | 01/18/2001
Boling Green, FL
Hudson, Leigh Ann | 01/18/2001
New Castle, DE
Irvine, Gerald Lenard | 01/18/2001
Montgomery, AL
Jones, Mary Dee | 01/18/2001
Greensburg, LA
Kelley, Ira John | 01/18/2001
Conneautville, PA
Kooker, Robert Allen | 01/18/2001
Loomis, CA
Lake, Alan Shanley | 01/18/2001
Anaheim, CA
Lambe, Michael J | 01/18/2001
New Britain, CT
Lambert, Sheryl Yanick | 01/18/2001
Chicago, IL
Lansford, Cynthia Leah | 01/18/2001
Birmingham, AL
Large, James Matthew | 01/18/2001
Finleyville, PA
Licerio, Lulex Guerrero | 01/18/2001
Orangeburg, NY
Lopp, Roddie M | 01/18/2001
Louisburg, NC
Lucker, Edward | 01/18/2001
Pleasant Valley, NY
Lynch, Francis R | 01/18/2001
N. Haven, CT
Marsh, John R | 01/18/2001
San Andreas, CA
Martinez, Maria Anita | 01/18/2001
Fresno, CA
Mather, William H | 01/18/2001
Douglasville, GA
Matthews, Pamela | 01/18/2001
Chicago, IL
McAllister, Charles H | 01/18/2001
Hialeah, FL
McClellan-Dunson, Ionia | 01/18/2001
Freeport, IL
McCulloch, Rhonda Kay | 01/18/2001
Hokes Bluff, AL
McCurry, Tamiko | 01/18/2001
Chicago, IL
McDonald, Keith William | 01/18/2001
Secaucus, NJ
McElroy, Sheronne Renee | 01/18/2001
Chicago, IL
Meads, Linda | 01/18/2001
Los Altos, CA
Medina, Benjamin | 01/18/2001
Chicago, IL
Melchor, Eduardo L | 01/18/2001
Barrington, IL
Melton, Walter | 01/18/2001
Sprott, AL
Mendelsohn, Deborah Miriam | 01/18/2001
Waverly, PA
Mendo-Cruz, Patricia | 01/18/2001
Whittier, CA
Michalowski, Andrew Peter | 01/18/2001
Berwyn, IL
Midzenski, Malinda A | 01/18/2001
Baltimore, MD
Millburn, Joanne M | 01/18/2001
Philadelphia, PA
Miller, Nival Rizk | 01/18/2001
Tuscaloosa, AL
Mitchell, Brian | 01/18/2001
Chicago, IL
Montese, Romeo | 01/18/2001
Coral Springs, FL
Moody, Beth Ann | 01/18/2001
Conroe, TX
Moore, Samantha Claire | 01/18/2001
Rainbow City, AL
Moy, Jenny | 01/18/2001
Chicago, IL
Mullins, Phyllis | 01/18/2001
Gulfport, MS
Murphy, Gregory Allen | 01/18/2001
Bolingbrook, IL
Murphy, Madison Dee | 01/18/2001
Idaho Falls, ID
Nelson, Mae Ellen | 01/18/2001
Lubbock, TX
Nelson, Janice Louise | 01/18/2001
Chicago, IL
Newkirk, Garry Lee | 01/18/2001
Pacifica, CA
Nicolai, Anne | 01/18/2001
Davison, MI
Nkatu, Nsiele M | 01/18/2001
Los Angeles, CA
Norris, Stephanie Ann | 01/18/2001
Cambridge, IL
O'Brien, Patricia A | 01/18/2001
Washington, PA
O'Connor, Michael W | 01/18/2001
Chicago, IL
O'Dell, Bruce La Von | 01/18/2001
Mesa, AZ
O'Shea, Frank M | 01/18/2001
Ellicott City, MD
Palmer, Donna Kay Mitchell | 01/18/2001
Picayune, MS
Pascucci, Nicholas James | 01/18/2001
Woodhaven, NY
Peirce, Mary Elizabeth Chandle | 01/18/2001
Daphne, AL
Perkerson, Ralph Benton Jr | 01/18/2001
Jacksonville, FL
Petersen, David K | 01/18/2001
Boise, ID
Preston, Anne Shannon | 01/18/2001
Vestavia, AL
Preston, Colleen Marie | 01/18/2001
Elk River, MN
Ransom, Robert Stephens | 01/18/2001
Irvine, CA
Ream, Monica Irwin | 01/18/2001
Elfred, PA
Roberson, Traci S | 01/18/2001
Detroit, MI
Roberts, Rammie | 01/18/2001
Oklahoma City, OK
Roberts, John | 01/18/2001
Los Angeles, CA
Ruffolo, Pasquale R | 01/18/2001
Hamden, CT
Salter, Clifford James | 01/18/2001
St. Petersburg, FL
Santa-Teresa, Bienvendio | 01/18/2001
Irvine, KY
Savedra, Phyllis | 01/18/2001
Long Beach, CA
Self, Jo Anna | 01/18/2001
Bessemer, AL
Sen, Devashish | 01/18/2001
Newton, MA
Shelton, Margaret Ann | 01/18/2001
Capitola, CA
Smith, Randolph Lee | 01/18/2001
Pomona, CA
Street, Brenda Hardin | 01/18/2001
Hot Springs, AR
Swanson, Andrew Norman | 01/18/2001
Napa, CA | 01/18/2001
Wagner, Marie W | 01/18/2001
Dallas, TX
White, Clinton Ray | 01/18/2001
Clute, TX
Winmill, Diana Renee | 01/18/2001
Blackfoot, ID
Yarbrough, Ardry Lance | 01/18/2001
Atoka, OK
Young, Patricia Anketell | 01/18/2001
Sherman Oaks, CA
Federal State Exclusion/Suspension
Angulo, Ismael | 01/18/2001
Chicago, IL
Bungcayao, Isabelo Calacal | 01/18/2001
Oak Brook, IL
Jairath, Ravindra Kumar | 01/18/2001
Chicago, IL
Kilani, Reda | 01/18/2001
Naperville, IL
Quach, Minh | 01/18/2001
Chicago, IL
Tabe, Henry Brendan Ebot | 01/18/2001
Oak Park, IL
Trung Tin Gift & Pharmacy | 01/18/2001
Chicago, IL
Fraud/Kickbacks
Eaglin, Gerardette | 10/17/2000
Marietta, GA
Entities Owned/Controlled by Convicted
Agma, Drug, Inc | 01/18/2001
East Meadow, NY
Appalachian Medical Supply | 01/18/2001
Asheville, NC
Burnside Pharmacy | 01/18/2001
Burnside, KY
Genesee Hearing Svcs, LLP | 01/18/2001
Buffalo, NY
Home Infusion Mgmt. Svc | 01/18/2001
Congers, NY
Medical Repair Center, Inc | 01/18/2001
La Mesa, CA
Willowbrook Medical Treatment | 01/18/2001
Wayne, NJ
Default on Heal Loan
Ardalan, Mehrmaz | 01/18/2001
West Hills, CA
Booher-Fulton, Janette L | 01/18/2001
S. San Francisco, CA
Bunce, Christine T | 01/18/2001
Oakland, CA
Caldwell, Larry Von | 01/18/2001
Gretna, LA
Dominics, Beth Anne | 01/18/2001
Los Angeles, CA
Dowell, Alfonzo N Jr | 01/18/2001
Oklahoma City, OK
Farrell, Robert J | 12/13/2000
San Diego, CA
Funcia, Ana T | 01/18/2001
Miami, FL
Gieschen, John M | 01/18/2001
Santa Cruz, CA
Gillies, Douglas K | 01/18/2001
Roswell, NM
Grant, Terry E | 01/18/2001
Freeport, NY
Imani, Ibn A | 11/21/2000
Tallahassee, Fl
Jakubczak, Arthur F | 01/18/2001
Perth Amboy, NJ
Jefferson, Michael Kenneth | 01/18/2001
Woodland Hills, CA
Jimerson, Ruthie M | 11/27/2000
Youngstown, OH
Jubert, Angela K | 11/27/2000
Anderson, IN
McGinn, Thomas D | 01/18/2001
Milford, UT
Mendes, Antonio C | 01/18/2001
Canton, MA
Negron, Candido | 01/18/2001
Philadelphia, PA
Omohundro, William A | 01/18/2001
S. Pittsburg, Tn
Pinnace, Jeanette L | 11/28/2000
Ridley Park, PA
Polee, George | 11/28/2000
Nashville, TN
Rey, Jorge E | 01/18/2001
Chino, CA
Rocha, Mark W | 11/29/2000
Riverside, CA
Smith-Chapin, June D | 01/18/2001
Auburn Hills, MI
Soto, Mario J | 01/18/2001
Fresno, CA
Summers, Shawn J | 01/18/2001
Los Angeles, CA
Taylor, Berlan L | 01/18/2001
Alicia, AR
Yagow, John T | 01/18/2001
Watertown, WI

Dated: January 8, 2001.
Calvin Anderson, Jr.,
Director, Health Care Administrative Sanctions, Office of Inspector General.

[FR Doc. 01-1622 Filed 1-19-01; 8:45 am]

BILLING CODE 4150-04-P